DEPARTMENT OF EDUCATION

[Catalog of Federal Domestic Assistance (CFDA) Number: 84.215N]

Reopening and Extension of the Application Deadline Date for the Fiscal Year 2016 Competition; Promise Neighborhoods Program

AGENCY: Office of Innovation and Improvement, Department of Education.

ACTION: Notice.

SUMMARY: The Assistant Deputy Secretary for Innovation and Improvement reopens the competition and extends the deadline date for transmittal of applications for new awards for fiscal year (FY) 2016 under the Promise Neighborhoods program. The Assistant Deputy Secretary takes this action to allow more time for the preparation and submission of applications by prospective eligible applicants. We are reopening the competition and extending the application deadline date, from September 6, 2016 to September 16, 2016, for all applicants, due to the impact of severe weather-related issues across the country.

DATES:

Deadline for Transmittal of Applications: September 16, 2016.

Deadline for Intergovernmental Review: November 15, 2016.

SUPPLEMENTARY INFORMATION: On July 8, 2016, we published in the Federal Register (81 FR 44741) a notice inviting applications (NIA) for new awards for FY 2016 for the Promise Neighborhoods competition. On August 31, 2016, we published in the Federal Register a notice extending the deadline for transmittal of applications to allow certain eligible applicants affected by the flooding in Louisiana additional time to prepare and transmit their applications. At this time, we are reopening the Promise Neighborhoods competition and extending the deadline for transmittal of applications to allow all eligible applicants more time to prepare and submit their applications due to severe weather-related issues across the country.

Eligibility: The reopening of the competition and extension of the application deadline date in this notice applies to all applicants under the Promise Neighborhoods program.

In accordance with the application notice, an eligible organization for the Promise Neighborhoods program—

(1) Is representative of the geographic area proposed to be served;

(2) Is one of the following:

(a) A nonprofit organization that meets the definition of a nonprofit under 34 CFR 77.1(c), which may include a faith-based nonprofit organization.

(b) An institution of higher education as defined by section 101(a) of the Higher Education Act of 1965, as amended.

(c) An Indian tribe as defined in the NIA;

(3) Currently provides at least one of the solutions from the applicant's proposed continuum of solutions in the geographic area proposed to be served; and

(4) Operates or proposes to work with and involve in carrying out its proposed project, in coordination with the school's LEA, at least one public elementary or secondary school located within the identified geographic area that the grant will serve.

Note: Except for the deadline date, all information in the application notice for this competition remains the same.

Program Authority: Fund for the Improvement of Education, title V, part D, subpart 1, sections 5411 through 5413 of the Elementary and Secondary Education Act of 1965, as amended by the No Child Left Behind Act of 2001 (20 U.S.C. 7243-7243b).

FOR FURTHER INFORMATION CONTACT: Adrienne Hawkins, U.S. Department of Education, 400 Maryland Avenue SW., Room 4W256, Washington, DC 20202. Telephone: (202) 453-5638. Email address: PromiseNeighborhoods@ed.gov.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) on request to the program contact persons listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: September 12, 2016.
Nadya Chinoy Dabby,
Assistant Deputy Secretary for Innovation and Improvement.

[FR Doc. 2016-22242 Filed 9-15-16; 8:45 am]

BILLING CODE 4000-01-P